DEPARTMENT OF LABOR

Agency Information Collection Activities; Submission for OMB Review; Comment Request, National Worker Survey, New Collection

AGENCY: Chief Evaluation Office, Office of the Assistant Secretary for Policy, Department of Labor.

ACTION: Notice of information collection; request for comment.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data for the National Worker Survey. A copy of the proposed Information Collection Request (ICR) can be obtained by contacting the office listed below in the addressee section of this notice.

DATES: Written comments must be submitted to the office listed in the addressee section below on or before October 7, 2024.

ADDRESSES: You may submit comments by either one of the following methods:

Email: ChiefEvaluationOffice@dol.gov; Mail or Courier: Kacie Chang, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Kacie Chang by email at ChiefEvaluationOffice@dol.gov or by phone at (202) 693-5992.

SUPPLEMENTARY INFORMATION: I. Background: The Chief Evaluation Office (CEO) of the U.S. Department of Labor (DOL) intends to study the prevalence and severity of violations to the Fair Labor Standards Act (FLSA) which requires that workers who are covered by the act and not specifically exempt from its provisions be paid at least the Federal minimum wage and 1.5 times their regular rate of pay for hours worked over 40 in a workweek. The act also regulates the employment of youth under the age of 18 and establishes recordkeeping requirements for employers, among other provisions.

Violations of the FLSA are not uncommon. In a survey of 4,387 workers in low-wage industries in Chicago, Los Angeles, and New York City, two-thirds experienced at least one pay-related violation in any given week (Bernhardt, A., Milkman, R. and Theodore, N. 2009. Broken laws, unprotected workers: Violations of employment and labor laws in America's cities. National Employment Law Project, New York, NY). The actual extent of violations is unknown and must be estimated through surveys. Existing national surveys do a poor job of including workers who are at the highest risk of violations and are generally able to measure only minimum wage violations due to the way questions are asked. Given DOL's limited resources to investigate individual complaints, it is important to have nationally representative data on prevalence across industries and worker subpopulations to prioritize enforcement. The current study will build on the work of previous surveys by designing a nationally representative survey of workers with oversamples of workers in low-wage industries where violations are most likely to occur. The study will provide DOL with information it needs to promote compliance with the FLSA as well as outreach and education to raise awareness among vulnerable workers about the types of pay practices and other actions used by employers who violate the FLSA.

This Federal Register Notice provides the opportunity to comment on proposed data collection instrument that will be used in the National Worker Survey. The instrument will contain approximately 25 questions and is expected to take up to 25 minutes to complete (not every participant will be expected to answer every question).

II. Desired Focus of Comments: Currently, the Department of Labor is soliciting comments concerning the above data collection for the National Worker Survey. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for the survey instrument.

Type of Review: New information collection request.

OMB Control Number: 1290-0NEW

Affected Public: Individuals or households

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Address-based sample screener only | 6,000 | 1 | 6,000 | .08 | 480
Address-based sample screener and survey | 4,000 | 1 | 4,000 | .5 | 2,000
Respondent-driven sample screener only | 1,000 | 1 | 1,000 | .08 | 80
Respondent-driven sample screener and survey | 4,000 | 1 | 4,000 | .5 | 2,000
Total | 15,000 |  | 15,000 |  | 4,560

Upeksha Savi Swick,
Director of Research, Chief Evaluation Office, U.S. Department of Labor.

[FR Doc. 2024-17587 Filed 8-7-24; 8:45 am]

BILLING CODE 4510-HX-P